DEPARTMENT OF ENERGY

Federal Energy Regulatory Commission

[Docket No. EC06-125-000]

KeySpan Corporation; Errata

June 2, 2006.

On June 1, 2006, the Commission issued a notice of filing in the above-referenced proceeding. Combined Notice of Filings #1, June 1, 2006. This Errata corrects the comment date of June 15, 2006 to read: “July 21, 2006”.

Magalie R. Salas,
Secretary.

[FR Doc. E6-9086 Filed 6-9-06; 8:45 am]

BILLING CODE 6717-01-P